DEPARTMENT OF AGRICULTURE

Natural Resources Conservation Service

Notice of Proposed Changes to the Natural Resources Conservation Service's National Handbook of Conservation Practices

AGENCY: Natural Resources Conservation Service (NRCS), USDA.

ACTION: Notice of availability of proposed changes in the NRCS National Handbook of Conservation Practices for public review and comment.

SUMMARY: It is NRCS's intention to issue a series of new or revised conservation practice standards in its National Handbook of Conservation Practices. These standards include: “Filter Strip (Code 393),” “Hillside Ditch (Code 423),” “Access Control (formerly titled Use Exclusion) (Code 472),” “Drainage Water Management (Code 554),” “Vegetated Treatment Area (formerly titled Wastewater Treatment Strip) (Code 635),” and “Constructed Wetland (Code 656).” NRCS State Conservationists who choose to adopt these practices for use within their States will incorporate them into Section IV of their respective electronic Field Office Technical Guides. These practices may be used in conservation systems that treat highly erodible land (HEL) or on land determined to be a wetland.

EFFECTIVE DATES: Comments will be received for a 30-day period commencing with this date of publication. Final versions of these new or revised conservation practice standards will be adopted after the close of the 30-day period, after consideration of all comments.

ADDRESSES: Comments should be submitted by one of the following methods:

1. In writing to: National Agricultural Engineer, NRCS, Post Office Box 2890, Washington, DC 20013-2890; or

2. Electronically by e-mail to: daniel.meyer@wdc.usda.gov.

FOR FURTHER INFORMATION CONTACT: Copies of these standards can be downloaded and/or printed from the following Web site: ftp://ftp-fc.sc.egov.usda.gov/NHQ/practice-standards/federal-register/. Also, copies of these standards are available from National Headquarters in Washington, DC. Submit inquiries in writing to Daniel Meyer, National Agricultural Engineer, NRCS, Post Office Box 2890, Room 6139-S, Washington, DC 20013-2890; or electronically to: daniel.meyer@wdc.usda.gov.

SUPPLEMENTARY INFORMATION: Section 343 of the Federal Agriculture Improvement and Reform Act of 1996 requires NRCS to make available for public review and comment all proposed revisions to conservation practice standards used to carry out the HEL and wetland provisions of the law. For the next 30 days, NRCS will receive comments relative to the proposed changes. Following that period, a determination will be made by NRCS regarding disposition of those comments and a final determination of changes will be made.

Signed in Washington, DC, January 9, 2008.
Arlen L. Lancaster,
Chief.

[FR Doc. E8-1115 Filed 1-22-08; 8:45 am]

BILLING CODE 3410-16-P